DEPARTMENT OF THE INTERIOR

Bureau of Land Management

[LLNML00000 L14300000.EQ0000 14XL1109AF]

Notice of Temporary Closure of Public Land in Doña Ana County, NM

AGENCY: Bureau of Land Management, Interior.

ACTION: Notice.

SUMMARY: As authorized under the provisions of the Federal Land Policy and Management Act of 1976 and Bureau of Land Management (BLM) regulations, certain public land near Doña Ana International Jetport in Santa Teresa, New Mexico, will be temporarily closed to all public use to provide for public safety during the Amigo Airsho event to be held from October 29 through November 2, 2014.

DATES: The temporary closure period is October 29 through November 2, 2014.

FOR FURTHER INFORMATION CONTACT: David Wallace, Assistant District Manager, Multi-Resources Division, BLM Las Cruces District Office, 1800 Marquess Street, Las Cruces, New Mexico 88005; by telephone at 575-525-4393; or by email at dwallace@blm.gov. Persons who use a telecommunications device for the deaf (TDD) may call the Federal Information Relay Service (FIRS) at 1-800-877-8339 to contact Mr. Wallace during normal business hours. The FIRS is available 24 hours a day, 7 days a week, to leave a message or question for Mr. Wallace. You will receive a reply during normal business hours.

SUPPLEMENTARY INFORMATION: This closure applies to all public use, including pedestrian use and vehicles on the affected public lands. The public lands affected by this closure are described as follows:

New Mexico Principal Meridian, New Mexico

T. 28 S., R. 2 E.,

Sec. 3, lot 1, SE¼NE¼, and SE¼;

Sec. 10, N½NE¼;

Sec. 11, NE¼, N½NW¼, E½SW¼NW¼, E½NW¼SW¼NW¼, E½SW¼SW¼NW¼, SE¼NW¼, NE¼NE¼SW¼, E½NW¼NE¼SW¼, NE¼SE¼, N½NW¼SE¼, and SE¼NW¼SE¼.

The area described aggregates 714.80 acres.

The closure notice and map of the closure area will be posted at the BLM Las Cruces District Office, 1800 Marquess Street, Las Cruces, New Mexico. Roads leading into the public land under the closure will be posted to notify the public of the closure. Under the authority of Section 303(a) of the Federal Lands Policy and Management Act of 1976 (43 U.S.C. 1733(a)), 43 CFR 8364.1 and 43 CFR 8360.0-7, the BLM will enforce the following use in the area described above: All public use, whether motorized, on foot, or otherwise, is prohibited.

Exceptions: Closure restrictions do not apply to event officials, medical and rescue personnel, law enforcement, and agency personnel monitoring the events.

Penalties: Any person not excepted who fails to comply with the closure order is subject to arrest and, upon conviction, may be fined not more than $1,000 and/or imprisonment for not more than 12 months under 43 CFR 8360.0-7. Violations may also be subject to the provisions of Title 18, U.S.C. sections 3571 and 3581.

Authority: 43 CFR 8364.1 and 8360.0-7.

Jesse J. Juen,
State Director.

[FR Doc. 2014-23072 Filed 9-26-14; 8:45 am]

BILLING CODE 4310-FB-P